DEPARTMENT OF AGRICULTURE

Animal and Plant Health Inspection Service

[Docket No. 03-051-1]

Genetically Engineered Forest and Fruit Trees; Public Meeting

AGENCY: Animal and Plant Health Inspection Service, USDA.

ACTION: Notice of public meeting.

SUMMARY: This is to notify parties involved in those fields associated with the environmental release of genetically engineered trees, as well as other interested persons, that a public meeting will be held to provide a forum for discussion on the environmental safety, potential benefits, and risks of genetically engineered trees relative to traditional varieties. The meeting is being organized by the Animal and Plant Health Inspection Service.

DATES: The meeting will be held on Tuesday, July 8, 2003, from 8 a.m. to 4 p.m., and Wednesday, July 9, 2003, from 8:30 a.m. to 4 p.m.

ADDRESSES: The public meeting will be held at the USDA Center at Riverside, 4700 River Road, Riverdale, MD.

FOR FURTHER INFORMATION CONTACT: For information about the meeting or to register, contact Mr. John Cordts, Biotechnologist, BRS, APHIS, 4700 River Road Unit 147, Riverdale, MD 20737-1236; (301) 734-5531, fax: (301) 734-8669, or e-mail: John.M.Cordts@aphis.usda.gov.

In addition, information regarding the meeting and registration is available on the Internet at http://www.aphis.usda.gov/ppq/biotech/.

SUPPLEMENTARY INFORMATION: The regulations in 7 CFR part 340, “Introduction of Organisms and Products Altered or Produced Through Genetic Engineering Which Are Plant Pests or Which There Is Reason to Believe Are Plant Pests,” (referred to below as the regulations) regulate, among other things, the introduction (importation, interstate movement, or release into the environment) of organisms and products altered or produced through genetic engineering that are plant pests or that there is reason to believe are plant pests. Such genetically engineered organisms and products are considered “regulated articles.”

Field tests of genetically engineered forest and fruit trees are currently being conducted under the regulations. In order to provide a forum for the discussion of regulatory and scientific issues related to the environmental safety, potential benefits, and risks associated with genetically engineered forest and fruit trees, the Animal and Plant Health Inspection Service (APHIS) is organizing a public meeting. This public meeting is scheduled for July 8-9, 2003, and will provide an opportunity for the exchange of information between APHIS representatives, scientists with recognized expertise in fields associated with the environmental release of genetically engineered trees, and other interested persons on subjects including forest ecology, plant genetics, and weed science. Preregistration is required for all those who wish to attend the meeting. The deadline for all preregistration is Monday, June 30, 2003. Information regarding the meeting and registration instructions may be obtained from the person listed under FOR FURTHER INFORMATION CONTACT or on the Internet at http://www.aphis.usda.gov/ppq/biotech/.

Persons interested in making an oral presentation at the meeting should submit a brief written statement of the general views they wish to present, the name and address of each person who will participate in the presentation, and an estimate of the approximate length of time needed to make the presentation. This information should be submitted to the person listed under FOR FURTHER INFORMATION CONTACT or through the Internet address provided in that section no later than July 1, 2003. The number of oral presentations and the time allocated for each may be limited, depending upon the number of requests. Oral presentations will be recorded in the proceedings of the meeting. Persons interested in submitting written comments for inclusion in the proceedings may do so by e-mail, postal mail/commercial delivery, or fax by August 1, 2003. Send all comments to the person listed under FOR FURTHER INFORMATION CONTACT. Please state that your comment refers to Docket No. 03-051-1. If you use e-mail, your comment must be contained in the body of your message or sent as an attachment in WordPerfect or Microsoft Word format. Please include your name and address in your message and “Docket No. 03-051-1” on the subject line.

Parking and Security Procedures

Please note that a fee of $2.25 is required to enter the parking lot at the USDA Center at Riverside. The machine accepts $1 bills or quarters.

Upon entering the building, visitors should inform security personnel that they are attending the Tree Biotechnology meeting. Identification is required. Security personnel will direct visitors to the sign-in tables located outside of the Conference Center. All participants must sign in upon arrival. Conference badges must be worn throughout the day.

Done in Washington, DC, this 16th day of May 2003 .
Kevin Shea,
Acting Administrator, Animal and Plant Health Inspection Service.

[FR Doc. 03-12992 Filed 5-22-03; 8:45 am]

BILLING CODE 3410-34-P